DEPARTMENT OF VETERANS AFFAIRS

[OMB Control No. 2900-0630]

Proposed Information Collection (Justification for Regulation on Application for Fisher Houses and Other Temporary Lodging, VA Forms 10-0408 and 10-0408a)

Activity: Comment Request.

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each revised collection, and allow 60 days for public comment in response to the notice. This notice solicits comments on the information needed for Veterans, Veteran Representatives and health care providers to request reimbursement from the federal government for emergency services at a private institution.

DATES: Written comments and recommendations on the proposed collection of information should be received on or before December 8, 2014.

ADDRESSES: Submit written comments on the collection of information through Federal Docket Management System (FDMS) at www.Regulations.gov; or Audrey Revere, Office of Regulatory and Administrative Affairs, Veterans Health Administration (10B4), Department of Veterans Affairs, 810 Vermont Avenue NW., Washington, DC 20420 or email: Audrey.revere@va.gov. Please refer to “OMB Control No. 2900-0630” in any correspondence. During the comment period, comments may be viewed online through the FDMS.

FOR FURTHER INFORMATION CONTACT: Audrey Revere at (202) 461-5694.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Justification for Regulation on Application for Fisher Houses and Other Temporary Lodging.

OMB Control Number: 2900-0630.

Type of Review: Extension.

Abstract: VA is mandated to establish a program for providing temporary lodging under section 221(a) of the Veterans Benefits and Health Care Act of 2000 (Pub. L. 106-419). These statutory provisions have been codified at 38 U.S.C. 1708 and are administered by the Veterans Health Administration (VHA) of VA. This program provides temporary lodging by veterans receiving VA medical care or C&P examinations and by family members or other persons accompanying veterans to provide the equivalent of familial support. If the veteran is undergoing extensive treatment or procedures, such as an organ transplant or chemotherapy, eligible persons may be furnished temporary lodging for the duration of the episode of care. Data is collected during the application process to determine eligibility for temporary lodging.

Affected Public: Individuals or Households.

Estimated Annual Burden: 83,333 burden hours.

Estimated Average Burden per Respondent: 10 minutes.

Frequency of Response: Annually.

Estimated Number of Respondents: 250,000.

Dated: October 2, 2014.
By direction of the Secretary.
Crystal Rennie,
Department Clearance Officer, Department of Veterans Affairs.

[FR Doc. 2014-23861 Filed 10-6-14; 8:45 am]

BILLING CODE 8320-01-P